FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Raylink Shipping Inc., 60 Bay 40th Street, Brooklyn, NY 11214, Officers:Tao Zhang (Jason Zhang), President (Qualifying Individual).

AA Connection, LLC, 2198 144th Ave., SE., Bellevue, WA 98007, Officers:Mei Mao, Manager (Qualifying Individual), Frances Underhill, Member.

Cybamar Swiss GMBH, Hugostruasse 9 8050 Zurich, Switzerland. Officer:Bassem Salhab, Managing Director (Qualifying Individual).

Superior International Group Inc., 355 S. Lemon Avenue, Suite E, Walnut, CA 91789. Officer:Steven Wong, President (Qualifying Individual).

Non-Vessel-Operating Common Carrier and Ocean Freight Forwarder Transportation Intermediary Applicant:

Transportation Freight Group, LLC, 720 Heards Ferry Road, Atlanta, GA 30328, Officer:Chad Rosenberg, Member (Qualifying Individual).

Ocean Freight Forwarder—Ocean Transportation Intermediary Applicants:

Cycle Logical Supply Chain Solutions, LLC, 444 Claude Scott Drive, Canton, GA 30115, Officer:Sheila Hines Hewitt, President (Qualifying Individual).

Star USA, Inc., 250 N. Davis Road, Ashland, OH 44805. Officers:Michael L. Easton, Vice President (Qualifying Individual), Margaret S. Easton, President.

Dated: October 6, 2006.
Bryant L. VanBrakle,
Secretary.

[FR Doc. E6-16916 Filed 10-11-06; 8:45 am]

BILLING CODE 6730-01-P